DEPARTMENT OF HEALTH AND HUMAN SERVICES

Substance Abuse and Mental Health Services Administration (SAMHSA)

45 CFR Part 96

RIN 0930-AA04

Application Deadline for the Substance Abuse Prevention and Treatment (SAPT) Block Grant Program

AGENCY: HHS.

ACTION: Final Rule.

SUMMARY: On February 4, 2000, the Department of Health and Human Services (HHS) published a Notice of Proposed Rulemaking (NPRM) proposing a new submission date for its Substance Abuse Prevention and Treatment (SAPT) Block Grant program under section 1921 of the Public Health Service (PHS) Act which authorizes the Secretary to provide block grants to States for the purposes of prevention and treatment of substance abuse which includes alcohol and other drugs. The Secretary requested comments on the NPRM and gave 45 days for individuals to submit their comments to the Department. The Secretary has considered the comments received during the open comment period and has finalized the rule.

EFFECTIVE DATE: August 21, 2000.

FOR FURTHER INFORMATION CONTACT: Thomas M. Reynolds, Room 13C-20, Parklawn Bldg., 5600 Fishers Lane, Rockville, MD 20857 Tel. (301)443-0179.

SUPPLEMENTARY INFORMATION: The Department is finalizing the rule entitled “Application Deadline for SAPT Block Grant Program,” 45 CFR Part 96, which was published as a NPRM in the Federal Register on February 4, 2000 (65 FR 5474).

Background on the Notice of Proposed Rulemaking and Summary of Responses to Public Comment

A. Notice of Proposed Rulemaking (NPRM)

When SAMHSA first implemented the SAPT Block Grant program a primary concern was affording States sufficient time to develop the increased information required to apply for a grant under this program as compared to the generally less detailed application required under the predecessor Alcohol, Drug Abuse, and Mental Health Services Block Grant program administered by the Alcohol, Drug Abuse, and Mental Health Administration. This was accomplished by affording States the opportunity to submit their applications as late as March 31, fully six months into the Federal fiscal year (FFY) for which funding is requested (See 45 CFR 96.122(d)). This relatively late receipt date results in insufficient time to administer the SAPT Block Grant program in accordance with all the governing provisions of law. This is most noted under circumstances calling for the clarification of application data and, if necessary, the conduct of hearings in a timely manner and consistent with the requirements of section 1945(e) of the Public Health Service (PHS) Act.

States are now fully aware of the application requirements and can reasonably be expected to respond to an earlier submission date. Accordingly, starting with Federal fiscal year 2001, the Department proposed to establish a new date of October 1 of the Federal fiscal year for which Block Grant funding is being requested for receipt of applications for such funding. However, if a State determines that it will not be able to submit by October 1 either the report as required at 45 CFR 96.130(e) on Synar enforcement efforts and State success in reducing youth access to tobacco products during the preceding Federal fiscal year, or the information on maintaining State expenditures (MOE) during the preceding year as required at 45 CFR 96.134(d), the State, under the proposed rule, could request an extension of the due date(s) for a limited period, not to extend past December 31 of the Federal fiscal year for which application is made. The request for the extension would need to be signed by the official with the authority to apply for the grant or the Governor, and be submitted no later than September 1 of the prior Federal fiscal year. Under the proposed rule, the extension request must indicate for which requirement the extension is requested; include an explanation of why the State is unable to comply with the due date of October 1; state the date of submission the State is requesting; and discuss whether there are steps the State can take to avoid requiring an extension in future years. Extensions for the deadlines for these requirements are to be granted in writing by the SAMHSA official with delegated authority to grant the extension. All other components of the SAPT Block Grant application not covered by the extension are due by October 1 of the Federal fiscal year for which funds are being sought.

After considering the comments on the NPRM, HHS is finalizing the rule as proposed. Below is the Department's response to the comments to the proposed rule.

B. Public Comments and the Department's Responses

The Department received comments from 9 States and one national organization, the National Association of State Alcohol and Drug.

Abuse Directors (NASADAD), during the 45-day comment period. All written comments were reviewed and taken into consideration in the preparation of the final rule. The substantive concerns raised in the public comments and the Department's responses to the comments are set out below. Similar comments are considered together.

One commenter, the national organization, indicated that the proposed change will negatively impact half of the 60 SAPT Block Grant applicants. The commenter stated that while some States may be able to complete their applications earlier than others, this may be due to the fact that their State fiscal years, data collection, and reporting systems are more consistent with the Federal fiscal year, or because they have additional staff or resources to commit to the processes of planning, collecting and analyzing data, and reporting information. However, for the other half of the States that submit their application between October 1 and March 31, the proposed rule would create a hardship. Five other commenters expressed similar concerns related to their specific States, with one State commenting that the change to advance the application date should be delayed for at least one year.

SAMHSA has engaged in a number of interactions with the States regarding the proposed change in due date for the Block Grant application as follows:

Regional Team Building Workshops: The first formal discussions of the proposed change in the application due date were held at these regional workshops. Fifty-eight of 60 Single State Agency Directors and their Staff as well as NASADAD attended at least one of this series of meetings held in San Antonio, Texas (December 8-9, 1998), Hilton Head Island, South Carolina (March 2-3, 1999), Providence, Rhode Island (April 13-14, 1999), and Juneau, Alaska (May 25-26, 1999). Some States indicated that they would not be able to comply with the new due date requirement unless they could delay reporting MOE and Synar information. As a result, SAMHSA decided to propose a 90-day extension for Synar and MOE data reporting.

State by State inquiry: In developing the proposed rule, SAMHSA queried the States in July 1999 as to their ability to meet the proposed deadline. All States responded that, while the change would pose some difficulty for some of them, they would be able to meet the deadline given the ability to receive extensions for the required Synar and MOE data. Although some States may need to make some changes in internal procedures, the Department believes the earlier application date is feasible, and the fact that we received few comments on this proposal reinforces our belief that States can adapt to the earlier due date.

NASADAD Annual Meeting: On June 5, 2000, SAMHSA staff discussed this issue with the States again at the NASADAD Leadership Forum in Reno, Nevada. The States responded that the task could be accomplished if the extensions were made available.

National Meeting: On June 22 and 23, 2000, at the Center for Substance Abuse Treatment's (CSAT) Fifth State Systems Development Program (SSDP), in Orlando, Florida, the Director of CSAT's Division of State and Community Assistance presented two workshops around Block Grant Administration issues in which most of the Single State Agency Directors participated. Again, the States responded that they can submit the application on October 1 if SAMHSA can provide the opportunity for an extension until December 31 for Synar or MOE reporting.

Two States also said that they would have difficulty because their public review and comment processes are currently (and have been since 1993) established around the March 31 deadline. It would, therefore, take time to change these long established procedures and mechanisms at the State level. The Department recognizes that these States will need to change these procedures but believes that the States and their constituent groups should be able to accommodate an October 1 deadline. Further, as we indicated in the NPRM, published in early February, States should be preparing to move toward an October 1 due date.

Commenters were concerned that the Block Grant applications and instructions have historically been received by the States from SAMHSA between May and September prior to the start of the Federal fiscal year for which they were applying. One State expressed concern but supported the rule change as long as this issue is addressed. We agree that the provision of application forms and instructions to the States so close to the next Federal fiscal year would not be appropriate with an October 1 deadline. SAMHSA has anticipated this problem, and consistent with one commenter's request that the application forms be available about six months prior to the due date, the FY 2001 Block Grant application forms and software were sent to all 60 Block Grant applicants by overnight mail on April 3, 2000. SAMHSA will continue this practice of providing sufficient lead time.

Two commenters indicated that recent changes, such as the requirement for multi-year reporting on the 16 Federal goals in the Federal fiscal year 2000 Block Grant application, have, in their view, added more work to complete the application. In turn, this increases the potential difficulty States will face in complying with the change in rule. However, the Department notes that the changes in the application simply consolidate previously existing reporting requirements into one place. These changes have been well received by most States that have discussed them with SAMHSA.

Another State indicated that the Block Grant Application System (BGAS) software distributed to the States is cumbersome and not always compatible with State software. The Department notes, however, that approximately 85 percent of States utilize the BGAS software in submitting their applications. Further, SAMHSA maintains a help desk during office hours to assist States in using the system and has provided successful on-site technical assistance to those having difficulty. SAMHSA will offer individual assistance to this commenter.

One State indicated that, although they have historically submitted their application in November, it would not have necessary MOE and Synar data available for the October due date. It should be noted that the Department has allowed for the opportunity for a State to seek an extension of the reporting date for this information until no later than December 31, which should accommodate this State's needs. With regard to the provision for an extension, a few States, and one in particular, stated a concern that the extension request provision is burdensome and unnecessary. Further, it was suggested that the due date not be changed, the due date be December 31, or that only a simple notification with the application should be required for granting an extension. We do not believe that the requirement to request an extension is unduly burdensome. States will, necessarily, have already considered their ability to submit a timely and complete application by the October 1 due date, and will be aware of the valid reasons why this is impossible. The requirement to submit an extension request is, therefore, simply a request to submit this reasoning in writing accompanied by a request for an extension. The suggestion that the due date not be changed from the current date is addressed elsewhere. The proposed alternative due date of December 31 would provide insufficient time to effectively address the needs we are addressing in this rule. Finally, the Department believes simply allowing an applicant to notify us that they will be taking until December 31 to submit an application component does not guarantee the level of attention by senior State officials which we believe essential to a process intended to assure extensions are an exception to normal practice. However, if a State wished to incorporate an extension request which fully complied with the requirements found in § 96.122(d) into its application, and it submitted that application no later than September 1 of the prior Federal fiscal year, it would be eligible for consideration as a validly submitted extension request.

Another commenter expressed concern that other required expenditure information will not be available by October 1. It should be noted, the application requires reporting on expenditures that occurred three years prior to the application submission, and it is the Department's belief that such expenditures data should be available to meet the October 1 due date.

Three commenters stated that the reporting requirements for the Block Grant application have expanded to require increased reporting which makes it more difficult to meet an October 1 due date. These changes include expansion of Synar reporting requirements, reporting on planned and actual requirements for the supplemental funding authorized by Pub. L. 104-121, the addition of Form 10 (State Use of Needs Assessment Information), and extensive treatment and prevention outcome measures. One State is concerned that the new Sections IV-A and IV-B, (Voluntary Treatment and Prevention Performance Measures), will become “required” at some point in the future. It should be noted that the reporting requirements related to Pub. L. 104-121 are minimal requirements necessary for reporting under the Block Grant, are time limited, and expire with the FFY 2001 application. Form 10 was added to correct a deficiency in reporting in previous applications and was designed to require minimal increased effort. The voluntary reporting on outcome measures is the product of agreement and extensive consensus development with the States and the national organization, NASADAD. At this time, the reporting is voluntary and the measures are being further refined through the consensus process. Although there has been an increase in the reporting of data, the Department believes that these data can be reported by the October 1 due date.

Several commenters stated that the SAPT Block Grant application is already a complex document that requires substantial involvement from both program and fiscal staff to complete. They believe the estimate provided in the NPRM of 60 additional hours required for the annual reporting burden as a result of the changed receipt date may lead to a perception that the proposed change in rule will pose no difficulties for grant applicants. Some commenters stated that they believe the 60 hours is too low an estimate. The Department recognizes the complexity of the statutorily mandated reporting required by the Block Grant application. The Department also recognizes that the change in rule will require some adjustments in current practices. However, while changing the due date for submission of the SAPT Block Grant application, the Rule does not change the basic reporting requirements. Further, the Department believes that this change is necessary to meet its responsibilities under the Block Grant program in a timely manner. The comments regarding reporting burden are more fully discussed below in the “Paperwork Reduction Act of 1995” section.

Three commenters stated that SAMHSA has limited staff to review each of the 60 Block Grant applications and that even if all applications were received on October 1 they believe it would be difficult for the SAMHSA State Project Officers to review all 60 applications in a timely manner. It should be noted that SAMHSA, with NASADAD input, has instituted a rigorous SAPT Block Grant review and approval process and a complementary tracking system that holds SAMHSA State Project Officers accountable for a timely review of all Block Grants assigned to them. SAMHSA time lines are being adjusted to accommodate the change in rule.

Two commenters recommended staggering the submission dates based on either the State fiscal year or their Synar circumstances. However, given the significant variances in State fiscal years and Synar circumstances the Department has sought to establish a process that most of the States have indicated will work for them.

Three States and NASADAD expressed concerns related to the Synar reporting requirements and processes; these are fully discussed below.

One State expressed concern regarding what it viewed as constant delays in the Federal review process due to frequent requirements for revisions of the Synar portion of the Block Grant application. The Department is aware that reporting on Synar activities requires time and resources in order to ensure that all the necessary data are included in the final report for review and analysis. However, the expressed concern is only true for States whose initial submission did not meet application requirements. In an effort to streamline the review process, SAMHSA has centralized the responsibilities for monitoring State Synar activities in the Division of State and Community System Development, System Development Branch. This change was implemented during the Federal fiscal year 2000 reviews. The Department believes that the new review process will facilitate the Synar report reviews and reduce the amount of time it takes to approve these reports. We note, however, that some States have experienced delays in funding when they have not met their negotiated Synar retailer compliance rates. The Department hopes that with the earlier application due date decisions will be made earlier in the Federal fiscal year. Further, the earlier deadline will allow SAMHSA more time to work with the States that are having Synar compliance problems, resulting in earlier funding decisions.

Another State suggested that all States be required to develop a plan that would enable them to complete their Synar reporting requirements by the required October 1 deadline, thereby making it unnecessary to institute a process for granting extensions. SAMHSA believes that, given the fact that all but three States rely on youth for the conduct of the Synar inspections, and given the fact that the summer months are the time when most youth are available to participate in the Synar inspections, many States will not be able to complete the required number of inspections, analyze the survey data and report the results back to SAMHSA by October 1. These factors will likely result in a number of States needing extensions for submitting their Synar reports. While SAMHSA is not adopting the suggested requirement, we are willing to provide assistance and work with States that may choose this approach.

Another State's comment made reference to specific circumstances for that State that seem to pose difficulties with meeting the October 1 deadline for submitting the annual Synar report. SAMHSA understands this State's concerns and is willing to provide technical assistance to the State in order to assist with adjusting the State's time lines for completing annual Synar inspections (current deadline for completing all Synar inspections is September 30), and collecting and reporting Synar information. It is SAMHSA's intent to provide assistance to all States to support the timely submission of required Synar-related materials.

The comment from NASADAD regarding Synar reporting focused on a concern about delays experienced by some States in securing SAPT Block Grant funding even when they believe they are in compliance with Synar requirements. While it is SAMHSA's desire to issue SAPT Block Grant awards as promptly as possible, if it is determined during the initial review that a Synar report is not complete, the State is asked to submit additional information to complete it. SAMHSA is only able to perform a thorough review of a State's application and make a determination of compliance with the Synar requirements after it receives a complete report from the State. In order to assure timely review, SAMHSA has implemented internal procedures designed to streamline the review process, including the development of enhanced and improved Synar plan reviews. The change to an October 1 due date for the Block Grant application should further enhance Federal review and approval of the applications. The earlier date provides SAMHSA additional time to work with the States in completing full and accurate applications in accordance with the Block Grant requirements. It also affords SAMHSA and the Department the time necessary to provide States with due process in the event that a State's application indicates possible non-compliance with Block Grant requirements.

Economic Impact

This rule does not have cost implications for the economy of $100 million, or otherwise meet the criteria for a major rule under Executive Order 12291, and therefore does not require a regulatory impact analysis. Further, this regulation will not have a significant impact on a substantial number of small entities, and therefore does not require a regulatory flexibility analysis under the Regulatory Flexibility Act of 1980.

Federalism Impact

As was detailed earlier in the preamble, SAMHSA consulted with the States concerning the proposed change in application due date. During 1998 and 1999, SAMHSA discussed the proposed change at several regional team building workshops. As a result of these meetings, SAMHSA decided to propose a 90-day extension for Synar and MOE reporting. Also, SAMHSA staff participated in two National meetings where the States responded that the proposed task could be accomplished if extensions were made available for reporting MOE and Synar data. Further, in developing the proposed rule, SAMHSA queried all the States and the States indicated that it would not be an undue hardship on them to meet this new requirement if there can be an extension when necessary until December 31 with regard to both maintenance of effort and Synar provisions.

The primary concern set forth by the national organization, NASADAD, focused on the ability to obtain the critical information required for the SAPT Block grant application that would permit its inclusion by the proposed October 1 due date. Also, the national organization noted that while some States may be able to complete their applications earlier than others, this may be due to the fact that their State fiscal years, data collection, and reporting systems are more consistent with the Federal fiscal year, or because they have additional staff or resources to commit to the processes of planning, collecting and analyzing data, and reporting information. As a consequence of the meetings discussed in detail earlier in the preamble, and above, as well as the discussions with SAMHSA regarding such areas as making the application guidance and software available at the earliest possible date, and that guidance would be provided to the States for use in applying for extensions for MOE and Synar reporting, the Department believes that these concerns of the national organization have been addressed. Further, since Section 96.122(d) allows for an extension with regard to the MOE and Synar reporting elements of the application, we do not believe that there is a significant Federalism impact.

Regulatory Evaluation

This proposal is not a significant regulatory action under Section 3(f) of the Executive Order 12866 and does not require an assessment of the potential costs and benefits under Section 6(a)(3) of that Order and has been exempted from review by the Office of Management and Budget under that Order.

Paperwork Reduction Act of 1995

This final rule contains information collection provisions which are subject to review by the Office of Management and Budget (OMB) under the Paperwork Reduction Act of 1995 (PRA)(44 U.S.C. 3507(d)). The title, description and respondent description of the information collections are shown in the following paragraphs with an estimate of the annual reporting burden. Included in the estimate is the time for reviewing instructions, searching existing data sources, gathering and maintaining the data needed, and completing and reviewing the collection of information.

Title: Application Deadline for SAPT Block Grant Program.

Description: The Secretary is issuing regulations to change the receipt date of SAPT Block Grant applications starting with the Federal Fiscal Year (FY) 2001 from March 31 to October 1. All elements of the application reporting requirements will be due October 1. However, States may request an extension of time for reporting State expenditures necessary to determine compliance with the Maintenance of Effort (MOE) requirement and/or to submit required Synar information for a period up to December 31. This change will allow HHS to review Block Grant applications and make Block Grant awards to all States earlier in the fiscal year. It will also provide additional time for sufficient planning in the event of any penalty actions that may be required, while recognizing the inability of some States to report the MOE and Synar data prior to December 31.

Description of Respondents: State and tribal governments.

In response to the Secretary's invitation in the NPRM to comment on the information collection requirements, three states and the national organization included comments on the response burden associated with the SAPT Block Grant application.

Comment: Two commenters indicated that the annual application is a complex submission that requires much more time to prepare than the 60 hours indicated.

Discussion: The current burden estimate for the annual application (approved under OMB control number 0930-0080) is 655 hours per State. The 120 hours of burden shown for the first year and the 60 hours for future years reflect only additional burden associated with the change in the due date. This rule does not change those basic reporting requirements. It does add one burden hour per State annually for the purpose of sending a letter requesting an extension of the due date for reporting maintenance of effort and/or Synar. The new burden estimate assumes, conservatively, that all States will submit such a request.

Change: None.

Comment: Two States commented that the burden associated with the change in due date is much more than the estimate of one hour per State.

Discussion: The Department recognizes the complexity of the statutorily mandated reporting required by the Block Grant application. This rule changes the due date for submission of the SAPT Block Grant application, but it does not change the basic reporting requirements for the SAPT Block Grant. There will be a need for some States to adjust their work schedules in order to submit the application by the new due date. However, because of the series of meetings and discussions with the national organization and its members, over the past two years, on the plan to change the due date, States have been aware of the planned change and have been planning for the transition. The additional burden hour per State estimated for the first year is in recognition of the transition.

Change: None.

Response burden estimate: Information collection language for the current rule is approved by OMB under control number 0930-0165 (Synar reporting requirements on youth access to tobacco) and control number 0930-0163 (for all other aspects of the annual application). The Substance Abuse Prevention and Treatment Block Grant Uniform Application format for FY 2000-FY 2002 is approved by OMB under control number 0930-0080. None of the specifics of these reporting requirements are being changed. Only the due date of the Uniform Application is impacted by this final rule.

At present, approximately half of all eligible Block Grant applicants routinely submit their Uniform Application for Block Grant funds on or before September 30 of the fiscal year preceding the fiscal year for which they are applying for funds. Approximately one half of all eligible applicants submit their uniform applications between October 1 and March 31 of the fiscal year for which block grant funds are being made available.

SAMHSA recognizes that the earlier receipt date will have an impact on the applicants, particularly those that have typically submitted their Uniform Application after September 30. Since the contents of the Uniform Application are not changing, it is difficult to estimate the additional response burden and associated costs for the first year of this change of receipt date (no additional burden is estimated for this change for future years). Therefore, a nominal response burden for each applicant of one hour is provided. In addition, it is conservatively assumed that all applicants will request an extension of the MOE and Synar reporting, and one hour is estimated for preparation of such a request.

Thus, for the first year of implementation, total response burden is estimated at 120 hours. For subsequent years, the burden estimate is 60 hours.

Annual Reporting Burden
45 CFR citation and purpose | Number of respondents | Responses per respondent | Hours per response | Total hours
96.122(d) Due date for annual report | 60 | 1 | 1 | 60
96.122(d) Extension requests associated with MOE and Synar | 60 | 1 | 1 | 60
Total | 60 |  |  | 120

Individuals and organizations may submit comments on these burden estimates or any other aspect of these information collection provisions, including suggestions for reducing the burden, and should direct them to: SAMHSA Reports Clearance Officer, Room 16-105, Parklawn Building, 5600 Fishers Lane, Rockville, MD 20857.

The information collection provisions in this final rule have been approved under OMB control number 0930-0163. This approval expires February 28, 2001. An agency may not conduct or sponsor, and a person is not required to respond to, a collection of information unless it displays a currently valid OMB control number.

List of Subjects in 45 CFR Part 96

Alcohol abuse, Alcoholism, Confidentiality, Drug abuse, Health records, Tobacco use by minors.

Dated: June 29, 2000.
Donna E. Shalala,
Secretary.

For the reasons set forth in the preamble, Subpart L of Part 96 of Title 45 of the Code of Federal Regulations is amended as follows:

PART 96—BLOCK GRANTS

1. The authority citation for Subpart L of Part 96 continues to read as follows:

Authority: 42 U.S.C. 300x-21 to 300x-35 and 300x-51 to 300x-64.

2. Section 96.122(d) is revised to read as follows:

§ 96.122 Application content and procedures.

* * * * *

(d) Beginning with the fiscal year 2001 application, the application (in substantial compliance with the statutory and regulatory provisions for the Block Grant) must be submitted no later than October 1 of the fiscal year for which Block Grant funding is being requested. The submission date for the report required by § 96.130(e) to be submitted with the application and/or the information required by § 96.134(b) may be extended for good cause shown in a request signed by the official authorized to apply for the Block Grant funding on behalf of the State, or the Governor. The State should request an extension for only the amount of time necessary. In no event will an extension be granted past December 31 of the fiscal year for which application is made. All requests to extend the due date must be submitted no later than September 1 of the prior fiscal year and addressed to the same address as specified for the grant application. Extension requests must state for which requirement an extension is sought, the date of submission sought, why the State is unable to meet the October 1 due date, and discuss if there are steps the State will be able to take to avoid requiring an extension in future years, or if not, why not. Extension requests complying with these requirements will be acted upon no later than September 20 of the fiscal year prior to the year for which application is to be made. Due date extensions regarding the § 96.130(e) report and regarding the § 96.134(d) information shall only be granted in writing. In order for an applicant to have complied with the requirements of section 1932(a)(1) of the Public Health Service Act (42 U.S.C. 300x-32(a)(2)), it is necessary that the components of the application have been submitted by the date indicated or as extended pursuant to this paragraph.

* * * * *

[FR Doc. 00-18316 Filed 7-20-00; 8:45 am]

BILLING CODE 4162-20-P